ENVIRONMENTAL PROTECTION AGENCY

[FRL-7004-5]

Proposed Settlement Agreement, Clean Air Act Petition for Review

AGENCY: Environmental Protection Agency (EPA).

ACTION: Notice of proposed settlement agreement providing for rulemaking to amend regulations issued pursuant to section 112(d) of the Clean Air Act.

SUMMARY: EPA hereby gives notice of a proposed settlement agreement in the case entitled American Coke and Coal Chemicals Inst. v. EPA, No. 99-1339 (consolidated with American Crop Prot. Ass'n v. EPA, No. 99-1332) (D.C. Cir.). EPA issues this notice in accordance with section 113(g) of the Clean Air Act (the “Act”), 42 U.S.C. 7413(g),which requires EPA to give notice and provide an opportunity for public comment on proposed settlement agreements.

The litigation challenges EPA's promulgation of the final rule entitled National Emissions Standards for Hazardous Air Pollutants: Pesticide Active Ingredient Production (“PAI NESHAP” or the “rule”). 64 FR 33550 (June 23, 1999). The American Coke and Coal Chemicals Institute (“ACCCI”) filed a petition for review of the rule under section 307(b) of the Act, 42 U.S.C. 7607(b). ACCCI's challenge concerns, among other things, the applicability of the rule to coal tar distillation units that produce creosote.

The proposed Settlement Agreement provides that EPA will undertake a rulemaking to revise the definition of “process tank” to eliminate the current reference to processing upstream and downstream of such tanks, and to provide additional examples of the types of tanks covered by the definition.

For a period of thirty (30) days following the date of publication of this notice, EPA will accept written comments relating to the proposed Settlement Agreement from persons who are not named as parties or interveners to this litigation. EPA or the Department of Justice may withhold or withdraw consent to the proposed Settlement Agreement if the comments disclose facts or circumstances that indicate that the agreement is inappropriate, improper, inadequate, or inconsistent with the requirements of the Act. Unless EPA or the Department of Justice makes such a determination following the comment period, EPA will take the actions set forth in the Settlement Agreement.

A copy of the proposed Settlement Agreement is available from Phyllis Cochran, Air and Radiation Law Office (2344A), Office of General Counsel, U.S. Environmental Protection Agency, Ariel Rios Building, 1200 Pennsylvania Avenue, NW., Washington, DC 20460, (202) 564-5566. Written comments should be sent to Paul R. Cort, Esq., at the above address and must be submitted on or before July 30, 2001.

Dated: June 20, 2001.
Alan W. Eckert,
Associate General Counsel.

[FR Doc. 01-16440 Filed 6-28-01; 8:45 am]

BILLING CODE 6560-50-P